DEPARTMENT OF JUSTICE

Notice of Lodging of Consent Decree Under the Clean Air Act and Resource Conservation and Recovery Act

Pursuant to 28 CFR 50.7, notice is hereby given that on October 2, 2002, a Consent Decree in United States v. Environmental Services, LLC., Case No. IP 00-0538-C-B/S, was lodged with the United States District Court for the Southern District of Indiana Indianapolis Division.

Under this Consent Decree, Heritage Environmental Services LLC. (“Heritage”) will pay a penalty of $360,000 to the United States for violations of section 113(b) of the Clean Air Act, 42 U.S.C. 7413(b) as amended (“CAA”) and section 3008(a) of the Resource Conservation and Recovery Act, as amended (“RCRA” ), 42 U.S.C. 6928(a) as alleged in the Complaint in this action in connection with two of Heritage's hazardous waste treatment, storage, and disposal facilities located in Indianapolis, Indiana and Lemont, Illinois.

The Department of Justice will receive comments relating to the Consent Decree for a period of thirty (30) days from the date of this publication. Comments should be addressed to the Assistant Attorney General, Environment and Natural Resources Division, P.O. Box 7611, U.S. Department of Justice, Washington, DC 20044-7611, and should refer to United States v. Heritage Environmental Services, LLC., D.J. Ref. 90-5-2-1-06331.

The Consent Decree may be examined at the Office of the United States Attorney, Souther District of Indiana, United States Courthouse, 46 East Ohio Street, 5th Floor, Indianapolis, Indiana 46204, and at U.S. EPA Region 5, 77 West Jackson Boulevard, Chicago, Illinois 60604-3590. A copy of the Consent Decree may also be obtained by mail from the Consent Decree Library, P.O. Box 7611, U.S. Department of Justice, Washington, DC 20044-7611. In requesting a copy, please enclose a check in the amount of $6.75 (25 cents per page reproduction cost) payable to the U.S. Treasury.

William D. Brighton,
Assistant Chief, Environmental Enforcement Section, Environment and Natural Resources Division.

[FR Doc. 02-25516 Filed 10-7-02; 8:45 am]

BILLING CODE 4410-15-M